SMALL BUSINESS ADMINISTRATION

[Declaration of Disaster #3423]

State of Minnesota; Amendment # 1

In accordance with a notice received from the Federal Emergency Management Agency, dated June 24, 2002, the above-numbered Declaration is hereby amended to include Kittson, Koochiching, Lake of the Woods, Mahnomen, Marshall, Norman and Red Lake Counties in the State of Minnesota as a disaster area due to damages caused by severe storms, flooding and tornadoes occurring on June 9, 2002 and continuing.

In addition, applications for economic injury loans from small businesses located in the following contiguous counties may be filed until the specified date at the previously designated location: Becker, Clay, Clearwater, Itasca, Pennington, Polk and St. Louis Counties in Minnesota; and Cass, Grand Forks, Pembina, Traill and Walsh Counties in North Dakota. All other counties contiguous to the above-names primary counties have been previously declared.

The economic injury number assigned to North Dakota is 9Q3100.

All other information remains the same, i.e., the deadline for filing applications for physical damage is August 13, 2002 and for economic injury the deadline is March 14, 2003.

(Catalog of Federal Domestic Assistance Program Nos. 59002 and 59008)
Dated: June 25, 2002.
Herbert L. Mitchell,
Associate Administrator for Disaster Assistance.

[FR Doc. 02-16521 Filed 6-28-02; 8:45 am]

BILLING CODE 8025-01-P